DEPARTMENT OF COMMERCE

International Trade Administration

[A-570-119]

Antidumping Duty Order on Certain Large Vertical Shaft Engines Between 225cc and 999cc, and Parts Thereof From the People's Republic of China: Final Results of Changed Circumstances Review; Correction

AGENCY: Enforcement and Compliance, International Trade Administration, Department of Commerce.

ACTION: Notice; correction.

SUMMARY: The U.S. Department of Commerce (Commerce) published a notice in the Federal Register of August 24, 2022, in which Commerce announced the final results of the changed circumstances review of the antidumping duty (AD) order on certain large vertical shaft engines between 225cc and 999cc, and parts thereof (vertical shaft engines) from the People's Republic of China (China). In this notice, Commerce inadvertently failed to apply the finding to subject merchandise produced and exported by Jialing-Honda Motors Co., Ltd (Jialing) or produced and exported by Honda Power Products (China) Co., Ltd. (Honda). In addition, Commerce did not include the term “large” in the heading of the notice.

FOR FURTHER INFORMATION CONTACT: Leo Ayala, AD/CVD Operations, Office VII, Enforcement and Compliance, International Trade Administration, U.S. Department of Commerce, 1401 Constitution Avenue NW, Washington, DC 20230; telephone: (202) 482-3945.

SUPPLEMENTARY INFORMATION:

Background

On March 4, 2021, Commerce published an amended final determination and antidumping duty order on vertical shaft engines from China.¹ In the Order, Commerce specified an estimated weighted-average dumping margin and cash deposit rate for merchandise produced and exported by Jialing-Honda Motors Co., Ltd (Jialing).² This cash deposit rate, a producer-exporter combination rate, is currently imposed for entries of subject merchandise produced and exported by Jialing.

¹ See Certain Large Vertical Shaft Engines Between 225cc and 999cc, and Parts Thereof, from the People's Republic of China: Amended Final Antidumping Duty Determination and Antidumping Duty Order, 86 FR 12623 (March 4, 2021) (Order).

² Id., 86 FR at 12624.

On August 24, 2022, Commerce published in the Federal Register the final results of the changed circumstances review of the Order on vertical shaft engines from China.³ In the Final CCR Results, Commerce found that Honda is the successor-in-interest to Jialing. However, Commerce incorrectly referenced the cash deposit rate for subject merchandise “exported by Honda” ⁴ instead of subject merchandise “produced and exported by Honda.” In addition, Commerce did not specify that the cash deposit rate for Jialing applied to subject merchandise produced and exported by Jialing.

³ See Antidumping Duty Order on Certain Vertical Shaft Engines Between 225cc and 999cc, and Parts Thereof from the People's Republic of China: Final Results of Changed Circumstances Review, 87 FR 51966 (August 24, 2022) (Final CCR Results).

⁴ Id.

Correction

In the Federal Register of August 24, 2022, in FR Doc 2022-18210 on page 51966, correct the heading of the notice to:

Antidumping Duty Order on Certain Large Vertical Shaft Engines Between 225cc and 999cc, and Parts Thereof from the People's Republic of China: Final Results of Changed Circumstances Review; Correction.

On page 51966 in the third column, correct the first sentence of the second paragraph under the caption “Final Results of Changed Circumstances Review” to:

Consequently, Commerce will instruct U.S. Customs and Border Protection to suspend liquidation of all shipments of subject merchandise produced and exported by Honda and entered, or withdrawn from warehouse, for consumption on or after the publication date of this notice in the Federal Register at the AD cash deposit rate in effect for merchandise produced and exported by Jialing.

Notification to Interested Parties

This notice is issued and published in accordance with sections 751(b)(1) and 777(i) of the Tariff Act of 1930, as amended, and 19 CFR 351.216(e).

Dated: September 22, 2022.
Lisa W. Wang,
Assistant Secretary for Enforcement and Compliance.

[FR Doc. 2022-21128 Filed 9-28-22; 8:45 am]

BILLING CODE 3510-DS-P